FEDERAL RESERVE SYSTEM

Agency Information Collection Activities: Notice; Amendment

AGENCY: Board of Governors of the Federal Reserve System.

SUMMARY: On June 29, 2015, the Board published a notice of final approval of proposed information collections by the Board of Governors of the Federal Reserve System (Board) under OMB delegated authority. The Board did not include in the June 2015 notice information related to the public comment period. Accordingly, this notice supplements the June 2015 notice providing information related to the public comment period for transparency.

FOR FURTHER INFORMATION CONTACT: Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

SUPPLEMENTARY INFORMATION: The following information was not included in the June 2015 notice.

On April 14, 2015, the Federal Reserve published a notice in the Federal Register (80 FR 19986) requesting public comment for 60 days on the extension, without revision, of the Requirements Associated with Changes in Foreign Investments (Made Pursuant to Regulation K (FR 2064)), Microeconomic Survey (FR 3051), and Recordkeeping and Disclosure Provisions associated with Stress Testing Guidance. The comment period for this notice expired on June 15, 2015. The Federal Reserve did not receive any comments.

Board of Governors of the Federal Reserve System, July 1, 2015.
Robert de V. Frierson,
Secretary of the Board.

[FR Doc. 2015-16719 Filed 7-9-15; 8:45 am]

BILLING CODE 6210-01-P